SMALL BUSINESS ADMINISTRATION

[Disaster Declaration #17868 and #17869; Kentucky Disaster Number KY-00099]

Presidential Declaration of a Major Disaster for Public Assistance Only for the Commonwealth of Kentucky

AGENCY: Small Business Administration.

ACTION: Notice.

SUMMARY: This is a Notice of the Presidential declaration of a major disaster for Public Assistance Only for the Commonwealth of Kentucky (FEMA-4702-DR), dated 04/10/2023.

Incident: Severe Storms, Straight-line Winds, Tornadoes, Flooding, Landslides, and Mudslides.

Incident Period: 03/03/2023 through 03/04/2023.

DATES: Issued on 04/10/2023.

Physical Loan Application Deadline Date: 06/09/2023.

Economic Injury (EIDL) Loan Application Deadline Date: 01/10/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the President's major disaster declaration on 04/10/2023, Private Non-Profit organizations that provide essential services of a governmental nature may file disaster loan applications at the address listed above or other locally announced locations.

The following areas have been determined to be adversely affected by the disaster:

Primary Counties: Adair, Allen, Anderson, Barren, Bourbon, Breckinridge, Bullitt, Butler, Caldwell, Calloway, Carlisle, Casey, Christian, Clark, Clay, Crittenden, Cumberland, Daviess, Edmonson, Estill, Floyd, Franklin, Gallatin, Garrard, Grant, Graves, Grayson, Green, Hancock, Hardin, Harrison, Hart, Henry, Hickman, Hopkins, Jackson, Jefferson, Johnson, LaRue, Laurel, Lee, Lincoln, Livingston, Logan, Lyon, Madison, Marion, Marshall, Martin, McCracken, McLean, Meade, Menifee, Metcalfe, Monroe, Muhlenberg, Nelson, Nicholas, Ohio, Owen, Owsley, Powell, Robertson, Rockcastle, Simpson, Spencer, Taylor, Todd, Trigg, Trimble, Union, Warren, Washington, Webster, Whitley, Wolfe.

The Interest Rates are:

| Percent
For Physical Damage:
Non-Profit Organizations with Credit Available Elsewhere | 2.375
Non-Profit Organizations without Credit Available Elsewhere | 2.375
For Economic Injury:
Non-Profit Organizations without Credit Available Elsewhere | 2.375

The number assigned to this disaster for physical damage is 17868 B and for economic injury is 17869 0.

(Catalog of Federal Domestic Assistance Number 59008)

Francisco Sánchez, Jr.,
Associate Administrator, Office of Disaster Recovery & Resilience.

[FR Doc. 2023-08006 Filed 4-14-23; 8:45 am]

BILLING CODE 8026-09-P